DEPARTMENT OF ENERGY

Federal Energy Regulatory Commission

[Project No. 1888-030]

York Haven Power Company, LLC; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 1888-030.

c. Date Filed: August 30, 2012.

d. Applicant: York Haven Power Company, LLC.

e. Name of Project: York Haven Hydroelectric Project.

f. Location: On the Susquehanna River, in Dauphin, Lancaster, and York Counties, Pennsylvania. The project does not occupy any federal lands.

g. Filed Pursuant to: Federal Power Act, 16 U.S.C. 791 (a)-825(r).

h. Applicant Contact: David R. David, York Haven Power Company, York Haven Hydro Station, P.O. Box 67, York Haven, PA 17370, at (717) 266-9475 or email at DDavid@yorkhavenpower.com and Dennis T. O'Donnell, Olympus Power, LLC, 67 Park Place East, Morristown, NJ 07960.

i. FERC Contact: Emily Carter, (202) 502-6512 or emily.carter@ferc.gov

j. Deadline for filing motions to intervene and protests, comments, recommendations, preliminary terms and conditions, and preliminary fishway prescriptions is 60 days from the issuance of this notice; reply comments are due 105 days from the issuance date of this notice.

Motions to intervene, protests, comments, recommendations, preliminary terms and conditions, and preliminary fishway prescriptions may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The existing York Haven Project consists of a headrace wall, main dam, east channel dam, powerhouse, and forebay bulkhead. The stone masonry headrace wall extends 3,000 feet upstream from the north end of the powerhouse and, with an average height of 20 feet, directs flow to the powerhouse. The main dam is attached to the north end of the headrace where it runs diagonally across the main channel of the river approximately 4,970 feet to the west shore of Three Mile Island. The main dam is constructed of concrete fill, and has a maximum height at the crest of 17 feet and an average height of 10 feet. The east channel dam consists of a concrete gravity dam that extends approximately 950 feet east from the east shore of Three Mile Island to the east bank of the river. The east channel dam has an average height of 10 feet. The stone masonry forebay bulkhead wall, 155 feet long, extends west from the south end of the powerhouse to the transformer building, perpendicular to the shoreline. From the transformer building, the forebay bulkhead wall extends 475 feet north along the property line to the west bank of the river. A 14-foot-wide by 10.5-foot-tall trash sluice gate and associated spillway are located adjacent to the southern end of the powerhouse at the eastern end of the forebay wall.

York Haven's main dam and east channel dam impound the Susquehanna River, forming Lake Frederic that extends 3.5 miles upstream from the dam. Total storage in the 1,849-acre reservoir is approximately 8,000 acre-feet, and total useable storage is approximately 1,980 acre-feet. The current FERC license allows a 1.1-foot fluctuation in the project impoundment, but is not used under normal run-of-river operation. The normal water surface elevation of the project impoundment is 276.5 feet.¹ The elevation of the normal river surface below the dam is approximately 251.4 feet. The impoundment provides approximately 22.5 feet of net head for power generation purposes.

¹ All elevations are referenced to National Geodetic Vertical Datum (NGVD) 1929.

The brick and stone masonry powerhouse has approximate dimensions of 470 feet by 48 feet and is located at the southern end of the headrace wall and at the eastern end of the forebay bulkhead wall. The powerhouse includes 20 turbine-generator units and appurtenant equipment. The hydraulic equipment for units 1-3 are vertical-shaft, fixed-blade, Kaplan turbines; unit 4 is a vertical-shaft, manually adjustable blade, Kaplan turbine; units 5 and 6 are vertical-shaft, fixed-blade, propeller-type turbines; units 7, 8, 10-13, and 15-20 each consist of two vertical-shaft, Francis turbines connected through bevel gears to a single horizontal shaft; unit 9 is a two vertical-shaft, Francis turbine connected through a gearbox to a single horizontal shaft; and unit 14 is a vertical-shaft, Francis turbine. Units 1-5 have 1.6-megawatt (MW) generators; unit 6 has a 1.32-MW generator; unit 14 has a 1.2-MW generator; and units 7-13 and 15-20 have 0.7-MW generators. Water flowing through the turbines is discharged into the tailrace immediately downstream of the dam.

There are no primary transmission lines included as part of the project. The York Haven Project interconnects with the 115-kilovolt (kV) grid at the substation located immediately downstream of the project's forebay wall. A secondary service feed comes into the project substation via Line No. 722 at 13.2 kV.

The York Haven Project has an authorized nameplate generating capacity of 19.65 MW and generates an average of 130,812 megawatt hours annually. York Haven Power is currently studying the feasibility of providing a nature-like fishway to enhance fish passage facilities at the project. No other new developments or changes in operation are being proposed at this time.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions, or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following Hydro Licensing Schedule. Revisions to the schedule may be made as appropriate.

Milestone | Target Date
Filing of recommendations, preliminary terms and conditions, and preliminary fishway prescriptions | June 28, 2013.
Reply comments due | August 12, 2013.
Commission issues draft EA | December 26, 2013.
Comments on draft EA | January 24, 2014.
Modified terms and conditions | March 25, 2014.
Commission issues final EA | June 23, 2014.

p. Final amendments to the application must be filed with the Commission no later than 30 days from the issuance date of the notice of ready for environmental analysis.

q. A license applicant must file no later than 60 days following the date of issuance of this notice of acceptance and ready for environmental analysis provided for in 5.22: (1) a copy of the water quality certification; (2) a copy of the request for certification, including proof of the date on which the certifying agency received the request; or (3) evidence of waiver of water quality certification.

Dated: April 29, 2013.
Kimberly D. Bose,
Secretary.

[FR Doc. 2013-10620 Filed 5-3-13; 8:45 am]

BILLING CODE 6717-01-P